DEPARTMENT OF COMMERCE

National Oceanic and Atmospheric Administration

RIN 0648-XH029

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Herring Committee to consider actions affecting New England fisheries in the exclusive economic zone (EEZ). Recommendations from this group will be brought to the full Council for formal consideration and action, if appropriate.

DATES: This meeting will be held on Thursday, May 30, 2019 at 10 a.m.

ADDRESSES:

Meeting address: The meeting will be held at the Four Points by Sheraton, Wakefield, MA 01880; telephone: (781) 245-9300.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

Agenda

The Committee will review Framework 6 to the Herring Fishery Management Plan, an action considering fishery specifications for FY 2019-21; identify final preferred alternatives for Council consideration. They will also discuss and make recommendations for the Council review of the Management Strategy Evaluation (MSE) process used in Amendment 8 to develop and analyze acceptable biological catch (ABC) control rule alternatives. The Committee will have an initial discussion of a background document being prepared on Atlantic herring spawning activity on Georges Bank.

They will review findings and recommendations from the Research Set-Aside (RSA) Program Review and identify which issues the Council should consider further. Other business may be discussed as necessary.

Although non-emergency issues not contained on this agenda may come before this Council for discussion, those issues may not be the subject of formal action during this meeting. Council action will be restricted to those issues specifically listed in this notice and any issues arising after publication of this notice that require emergency action under section 305(c) of the Magnuson-Stevens Act, provided the public has been notified of the Council's intent to take final action to address the emergency.

Special Accommodations

This meeting is physically accessible to people with disabilities. This meeting will be recorded. Consistent with 16 U.S.C. 1852, a copy of the recording is available upon request. Requests for sign language interpretation or other auxiliary aids should be directed to Thomas A. Nies, Executive Director, at (978) 465-0492, at least 5 days prior to the meeting date.

Authority: 16 U.S.C. 1801 et seq.

Dated: May 10, 2019.
Tracey L. Thompson,
Acting Deputy Director, Office of Sustainable Fisheries, National Marine Fisheries Service.

[FR Doc. 2019-10084 Filed 5-14-19; 8:45 am]

BILLING CODE 3510-22-P